DEPARTMENT OF THE INTERIOR

Bureau of Land Management

[MT-921-08-1320-EL-P; MTM 97988]

Notice of Coal Lease Application—MTM 97988—Bull Mountain Coal Properties

AGENCY: Bureau of Land Management, Department of the Interior.

ACTION: Notice.

SUMMARY: This is Notice of Bull Mountain Coal Properties Coal Lease Application MTM 97988 for certain coal resources within the Bull Mountain Mine. The land included in Coal Lease Application MTM 97988 is located in Musselshell County, Montana, and is described as follows:

T. 6 N., R. 27 E., P.M.M.

Sec. 4: Lot 1, S½NE¼, SE¼NW¼, S½

Sec. 8: NE¼, NE¼NW¼, S½NW¼, S½

Sec. 10: W½NE¼, SE¼NE¼, NW¼, S½

Sec. 14: SW¼NE¼, NW¼, S½

Sec. 22: W½, SE¼

2,679.86 acres—Musselshell County, Montana.

The 2,679.86 acre tract contains an estimated 61.4 million tons of in-place coal reserves.

The application will be processed in accordance with the provisions of the Mineral Leasing Act of 1920, as amended (30 U.S.C. 181, et seq.), and the implementing regulations at 43 CFR 3400. A decision to allow leasing of the coal reserves in said tract will result in a competitive lease sale to be held at a time and place to be announced through publication pursuant to 43 CFR 3422.

Notice of Availability: The application is available for review between the hours of 9 a.m. and 4 p.m. at the Bureau of Land Management, Montana State Office, 5001 Southgate Drive, Billings, Montana 59101, and the Bureau of Land Management, Billings Field Office, between the hours of 9 a.m. and 4 p.m.

FOR FURTHER INFORMATION CONTACT: Rebecca Spurgin, Coal Coordinator, at telephone 406-896-5080, Bureau of Land Management, Montana State Office, 5001 Southgate Drive, Billings, Montana 59107-6800.

Dated: July 22, 2008.
Edward L. Hughes,
Acting Chief, Branch of Solid Minerals.

[FR Doc. E8-17197 Filed 7-29-08; 8:45 am]

BILLING CODE 4310-$$-P